DEPARTMENT OF ENERGY

Federal Energy Regulatory Commission

[Project No. 11068-011]

Orange Cove Irrigation District; Friant Power Authority; Notice of Application for Transfer of License, and Soliciting Comments, Motions To Intervene, and Protests

June 13, 2008.

Take notice that the following hydroelectric application has been filed with the Commission and is available for public inspection:

a. Application Type: Transfer of License.

b. Project No.: 11068-011.

c. Date Filed: April 2, 2008.

d. Applicants: Orange Cove Irrigation District (transferor) and Friant Power Authority (Transferee).

e. Name and Location of Project: Fishwater Release Project is located on the San Joaquin River in Fresno and Madera Counties, California.

f. Filed Pursuant to: Federal Power Act, 16 U.S.C. 791a-825r.

g. Applicant Contacts: For the transferor: Harvey Bailey, Orange Cove Irrigation District, P.O. Box 308, Orange Cove, CA 93646-0308.

For the transferee: Harvey Bailey, Orange Cove Irrigation District, P.O. Box 308, Orange Cove, CA 93646-0308 and William R. Carlisle, Friant Power Authority, P.O. Box 279, Delano, CA 93216.

h. FERC Contact: Robert Bell at (202) 502-6062.

i. Deadline for filing comments, protests, and motions to intervene: July 14, 2008.

All documents (original and eight copies) should be filed with: Kimberly Bose, Secretary, Federal Energy Regulatory Commission, 888 First Street, NE., Washington, DC 20426. Comments, protests, and interventions may be filed electronically via the Internet in lieu of paper. See 18 CFR 385.2001(a)(1)(iii) and the instructions on the Commission's Web site under the “e-Filing” link. The Commission strongly encourages electronic filings. Please include the Project Number on any comments or motions filed.

The Commission's Rules of Practice and Procedure require all intervenors filing a document with the Commission to serve a copy of that document on each person in the official service list for the project. Further, if an intervenor files comments or documents with the Commission relating to the merits of an issue that may affect the responsibilities of a particular resource agency, they must also serve a copy of the documents on that resource agency.

j. Description of Application: Applicants seek Commission approval to transfer the license for the Fishwater Release Project from Orange Cove Irrigation District, to Orange Cove Irrigation District and Friant Power Authority, in light of an April 7, 2006 conveyance of project property.

k. This filing is available for review at the Commission in the Public Reference Room or may be viewed on the Commission's Web site at http://www.ferc.gov using the eLibrary link. Enter the docket number (P-11068) in the docket number field to access the document. For assistance, call toll-free 1-866-208-3676 or e-mail FERCOnlineSupport@ferc.gov. For TTY, call (202) 502-8659. A copy is also available for inspection and reproduction at the addresses in item g above.

l. Individuals desiring to be included on the Commission's mailing list should so indicate by writing to the Secretary of the Commission.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “PROTEST”, OR “MOTION TO INTERVENE”, as applicable, and the Project Number of the particular application to which the filing refers. Any of the above-named documents must be filed by providing the original and eight copies to: The Secretary, Federal Energy Regulatory Commission, 888 First Street, NE., Washington, DC 20426. A copy of any motion to intervene must also be served upon each representative of the Applicants specified in the particular application.

o. Agency Comments—Federal, state, and local agencies are invited to file comments on the described application. A copy of the application may be obtained by agencies directly from the Applicants. If an agency does not file comments within the time specified for filing comments, it will be presumed to have no comments. One copy of an agency's comments must also be sent to the Applicants' representatives.

Kimberly D. Bose,
Secretary.

[FR Doc. E8-13948 Filed 6-19-08; 8:45 am]

BILLING CODE 6717-01-P